DEPARTMENT OF HOMELAND SECURITY

Coast Guard

[Docket No. USCG-2010-0164]

National Boating Safety Advisory Committee; April 2024 Meetings

AGENCY: Coast Guard, Department of Homeland Security.

ACTION: Notice of open Federal advisory committee meeting.

SUMMARY: The National Boating Safety Advisory Committee (Committee) will conduct meetings over three days in Austin, Texas to discuss matters relating to national boating safety. The meetings will be open to the public and will include in-person and virtual attendance options.

DATES:

Meetings: The Committee will meet on Tuesday April 23, 2024, from 8 a.m. to 4:30 p.m. Central Daylight Time (CDT). The Boats and Associated Equipment, Prevention Through People, and Recreational Boating Safety Strategic Planning Subcommittees will meet on Wednesday, April 24, 2024, from 8 a.m. to 4:30 p.m. (CDT). The full Committee will meet again on Thursday, April 25, 2024, from 8 a.m. until 12 p.m. (CDT). These meetings may adjourn early if the Committee has completed its business.

Comments and supporting documentation: To ensure your comments are received by Committee members before the meetings, submit your written comments no later than April 16, 2024.

ADDRESSES: The in-person meeting will be held at the Texas Parks and Wildlife Building, 4200 Smith School Rd., Austin, Texas 78744.

To join the meeting virtually or to request special accommodations, contact the individual listed in the FOR FURTHER INFORMATION CONTACT section no later than 1 p.m. CDT on April 16, 2024. The number of virtual lines is limited and will be available on a first-come, first-served basis.

Pre-registration information: Pre-registration is required for attending the virtual meeting. You must request attendance by contacting the individual listed in the FOR FURTHER INFORMATION CONTACT section of this notice. You will receive a response with attendance instructions.

The National Boating Safety Advisory Committee is committed to ensuring all participants have equal access regardless of disability status. If you require reasonable accommodation due to a disability to fully participate, please email Mr. Thomas Guess at NBSAC@uscg.mil or call (206) 815-0221 as soon as possible.

Instructions: You are free to submit comments in writing at any time or make them orally at the meetings as time permits, but if you want Committee members to review your comments before the meetings, please submit your comments no later than April 16, 2024. We are particularly interested in comments on the topics in the “Agenda” section below. We encourage you to submit comments through the Federal Decision-Making Portal at https://www.regulations.gov. To do so, go to https://www.regulations.gov, type USCG-2010-0164 in the search box and click “Search.” Next, look for this notice in the Search Results column, and click on it. Then click on the Comment option.

If you cannot submit your material using https://www.regulations.gov, email the individual in the FOR FURTHER INFORMATION CONTACT section of this notice for alternate instructions. You must include the docket number USCG-2010-0164. Comments received will be posted without alteration at https://www.regulations.gov, including any personal information provided. You may wish to review the Privacy and Security Notice found via a link on the homepage of https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Thomas Guess, Alternate Designated Federal Officer of the National Boating Safety Advisory Committee, telephone (206) 815-0221 or via email at NBSAC@uscg.mil.

SUPPLEMENTARY INFORMATION: Notice of this meeting is given pursuant the Federal Advisory Committee Act (Pub. L. 117-286, 5 U.S.C. ch. 10). The Committee was established on December 4, 2018, by section 601 of the Frank LoBiondo Coast Guard Authorization Act of 2018, (Pub. L. 115-282, 132 Stat. 4192), and is codified in 46 U.S.C. 15105. The Committee operates under the provisions of the Federal Advisory Committee Act and 46 U.S.C. 15109. The National Boating Safety Advisory Committee provides advice and recommendations to the Secretary of Homeland Security via the Commandant of the United States Coast Guard on matters relating to national boating safety. This notice is issued pursuant to 46 U.S.C. 15109(a).

Agenda

The agenda for the National Boating Safety Advisory Committee meeting is as follows:

Day 1

Tuesday, April 23, 2024

(1) Call to Order.

(2) Roll Call of Members.

(3) Opening Remarks by Chairperson.

(4) Opening Remarks by Director of Texas Parks and Wildlife.

(5) Opening Remarks by Senior U.S. Coast Guard Leadership.

(6) Swearing In of New Members.

(7) Memorial of Mr. Terry West, Georgia Boating Law Administrator.

(8) Minutes Approval and Pending Agenda Items from NBSAC 8.

(9) U.S. Coast Guard Public Affairs Presentation on U.S. Coast Guard Communications Capabilities.

(10) National Recreational Boating Safety Survey Update.

(11) Program Updates:

a. Recreational Boating Safety (RBS) Calendar.

b. Lifejacket Approval Harmonization Update.

c. Uniform Certificate of Titling Act for Vessels, Titling,

d. Vessel Identification System Update.

e. Strategic Plan Dashboard.

f. Data Analysis Project Dashboard.

(12) Recommendations Dashboard

a. Life Jacket wear on boats less than 16 feet in length.

b. Data analysis on Emergency Locator Beacons.

c. Update on throwables equivalency.

d. Alternatives to flares.

e. Task Closure of Task Statement 1, Resolutions and Task Statement 2, Strategic Plan.

f. Rental vessel survey.

g. Acceptance of report on Human Factors.

h. Timeline for Task Statement 3, Standards.

i. Progress update on outstanding Task Statements.

(13) Grant Product Warehousing Update.

(14) Grant Evidence Modeling Update.

(15) Social Media Calendar Update for Feb-Oct.

(16) Engine Cut-Off and other Citations issued by U.S. Coast Guard and States.

(17) Regulatory Projects Update.

(18) Digital Certificate of Number Certificate of Number Update.

(19) Grant Product Profiles.

a. JSI Life Jacket Wear Rate Observation Study.

(20) Review of Common Deficiencies.

(21) Hull Identification Number (HIN) exemption for Stand-Up Paddleboards and Kite Boards; assignment of HINs to vessels previously exempted.

(22) Preliminary Statistics Report.

(23) Public Comment Period.

(24) Whale Protection Rulemakings Update.

(25) Fees Recommendation Update.

(26) California and Maine State Law on Visual Distress Signals Flares; confusion of enforcement on electronic Visual Distress Signaling Devices among States.

(27) Maritime Mobility Service Identity and Digital Selective Calling Update.

(28) Lithium-Ion Batteries Update.

(29) Meeting Recess.

Day 2

Wednesday, April 24, 2023

Subcommittee Meetings

(1) Boats and Associated Equipment Subcommittee.

a. Issues to be discussed, “Boats and Associated Equipment Items.”

(2) Prevention Through People Subcommittee.

a. Issues to be discussed, “Prevention through People items.”

(3) Recreational Boating Safety Strategic Planning Subcommittee.

a. Issues to be discussed, “The National RBS Strategic Plan.”

Day 3

Thursday, April 25, 2024

The full Committee will resume meeting.

(1) Call to Order.

(2) Subcommittee Out-briefs.

(3) Discussion of Subcommittee recommendations and Committee Actions.

(4) Full Committee Open Discussion of Boating Safety Related Topics.

(5) Public Comment Period.

(6) Voting on any recommendations to be made to the U.S. Coast Guard.

(7) Administration.

(8) Closing Remarks.

(9) Adjournment of Meeting.

A copy of all meeting documentation will be available at https://homeport.uscg.mil/missions/federal-advisory-committees/national-boating-safety-advisory-committee-(nbsac)/committee-meetings no later than April 22, 2024. Alternatively, you may contact Mr. Thomas Guess as noted in the FOR FURTHER INFORMATION CONTACT section above.

There will be a public comment period from approximately 3:00 p.m. until 3:15 p.m. CDT on April 23, 2024, and on April 25, 2024, from 10:00 a.m. until 10:15 a.m. CDT. Speakers are requested to limit their comments to 3 minutes. Please note that the public comment period may end before the period allotted, following the last call for comments.

Please contact the individual listed in the FOR FURTHER INFORMATION CONTACT section above to register as a speaker.

Notice of Future 2024 Committee Meetings

To receive automatic email notices of future National Boating Safety Advisory Committee meetings in 2024, go to the online docket, USCG-2010-0164 (https://www.regulations.gov/docket/USCG-2010-0164). Next, click on the “Subscribe” email icon. We plan to use the same docket number for notices of all 2024 meetings of this Committee. When the next meeting notice is published and added to the docket, you will receive an email alert. In addition, you will receive notices of other items being added to the docket.

Dated: March 21, 2024.
Amy M. Beach,
Captain, U.S. Coast Guard, Director of Inspections and Compliance.

[FR Doc. 2024-06503 Filed 3-26-24; 8:45 am]

BILLING CODE 9110-04-P